DEPARTMENT OF COMMERCE

International Trade Administration

(A-475-818; A-489-805)

Notice of Final Results of Expedited Sunset Reviews of the Antidumping Duty Orders: Certain Pasta from Italy and Turkey

AGENCY: Import Administration, International Trade Administration, Department of Commerce.

SUMMARY: On October 2, 2006, the Department of Commerce (“the Department”) initiated five-year (“sunset”) reviews of the antidumping duty orders on certain pasta (“pasta”) from Italy and Turkey (71 FR 57921) pursuant to section 751(c) of the Tariff Act of 1930, as amended (“the Act”). On the basis of notices of intent to participate and substantive comments filed on behalf of the domestic interested parties, and an untimely response from a respondent interested party in the sunset review of Turkey, the Department conducted expedited (120-day) sunset reviews of these antidumping duty orders. As a result of these reviews, the Department finds that revocation of the antidumping duty orders on pasta from Italy and Turkey would be likely to lead to continuation or recurrence of dumping at the levels indicated in the Final Results of Review section of this notice.

EFFECTIVE DATE: February 5, 2007.

FOR FURTHER INFORMATION CONTACT: Dennis McClure or Brandon Farlander, AD/CVD Operations, Import Administration, International Trade Administration, U.S. Department of Commerce, 14th Street and Constitution Avenue, NW, Washington, DC 20230; telephone: (202) 482-5973 or (202) 482-0182, respectively.

SUPPLEMENTARY INFORMATION:

Background

On October 2, 2006, the Department initiated sunset reviews of the antidumping duty orders on pasta from Italy and Turkey (71 FR 57921), pursuant to section 751(c) of the Act. See Initiation of Five-year (“Sunset”) Reviews, 71 FR 57921 (October 2, 2006). On October 17, 2006, the Department received notices of intent to participate on behalf of New World Pasta Company, Dakota Growers Pasta Company, A. Zerga's Sons, Inc., Philadelphia Macaroni Company, and American Italian Pasta Company (collectively, “domestic interested parties”), within the applicable deadline specified in 19 CFR 351.218(d)(1)(i). See Letter of Domestic Party Notice of Intent to Participate - Sunset Review of the Antidumping Duty Order on Certain Pasta from Italy, dated October 17, 2006, and Domestic Party Notice of Intent to Participate - Sunset Review of the Antidumping Duty Order on Certain Pasta from Turkey, dated October 17, 2006. The domestic interested parties claimed interested party status under section 771(9)(C) of the Act, as producers of pasta in the United States. On November 1, 2006, the Department received complete substantive responses from the domestic interested parties within the 30-day deadline specified in 19 CFR 351.218(d)(3)(i). We received one substantive response from a respondent interested party in these proceedings; however, the response was returned because it was submitted after the November 1, 2006, deadline. See Letter from Oba Makarnacilik Sanayi ve Ticaret A.S. to the Secretary of Commerce, dated November 7, 2006. As a result, pursuant to 19 CFR 351.218(e)(1)(ii)(C), the Department conducted expedited, 120-day, sunset reviews of these antidumping duty orders.

Scope of Orders

Italy (A-475-818)

Imports covered by the antidumping duty order on pasta from Italy include shipments of certain non-egg dry pasta in packages of five pounds (2.27 kilograms) or less, whether or not enriched or fortified or containing milk or other optional ingredients such as chopped vegetables, vegetable purees, milk, gluten, diastasis, vitamins, coloring and flavorings, and up to two percent egg white. The pasta covered by this order is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded from the order on pasta from Italy are imports of organic pasta from Italy that are accompanied by the appropriate certificate issued by the Instituto Mediterraneo Di Certificazione, by Bioagricoop Scrl, by QC&I International Services, by Ecocert Italia or by Consorzio per il Controllo dei Prodotti Biologici, by Associazione Italiana per l'Agricoltura Biologica, or by Instituto per la Certificazione Etica e Ambientale (“ICEA”) are also excluded from this order.

The merchandise subject to the antidumping duty order on pasta from Italy is currently classifiable under item 1902.19.20 of the Harmonized Tariff Schedule of the United States (“HTSUS”). Although the HTSUS subheading is provided for convenience and customs purposes, the written description of the merchandise subject to the order is dispositive.

Scope Rulings:

The Department has issued the following scope rulings:

(1) On August 25, 1997, the Department issued a scope ruling, finding that multicolored pasta, imported in kitchen display bottles of decorative glass that are sealed with cork or paraffin and bound with raffia, is excluded from the scope of the order. See Memorandum from Edward Easton to Richard Moreland, dated August 25, 1997, on file in the Central Records Unit (“CRU”) of the main Commerce Building, Room B-099.

(2) On July 30, 1998, the Department issued a scope ruling, finding that multipacks consisting of six one-pound packages of pasta that are shrink-wrapped into a single package are within the scope of the order. See letter from Susan H. Kuhbach, Acting Deputy Assistant Secretary for Import Administration, to Barbara P. Sidari, Vice President, Joseph A. Sidari Company, Inc., dated July 30, 1998, on file in the CRU.

(3) On October 23, 1997, the petitioners filed a request that the Department initiate an anti-circumvention investigation against Barilla, an Italian producer and exporter of pasta. On October 5, 1998, the Department issued a final determination that, pursuant to section 781(a) of the Act, Barilla was circumventing the antidumping duty order by exporting bulk pasta from Italy which it subsequently repackaged in the United States into packages of five pounds or less for sale in the United States. See Anti-circumvention Inquiry of the Antidumping Duty Order on Certain Pasta from Italy: Affirmative Final Determination of Circumvention of the Antidumping Duty Order, 63 FR 54672 (October 13, 1998) (Barilla Circumvention Inquiry).

(4) On October 26, 1998, the Department self-initiated a scope inquiry to determine whether a package weighing over five pounds as a result of allowable industry tolerances may be within the scope of the order. On May 24, 1999, we issued a final scope ruling finding that, effective October 26, 1998, pasta in packages weighing up to (and including) five pounds four ounces, and so labeled, is within the scope of the order. See Memorandum from John Brinkmann to Richard Moreland, dated May 24, 1999 on file in the CRU.

Turkey (A-489-805)

Imports covered by the antidumping duty order on pasta from Turkey include shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this order is typically sold in the retail market, in fiberboard or cardboard cartons, or polyethylene or polypropylene bags of varying dimensions. Excluded from the scope of this order are refrigerated, frozen, or canned pastas, as well as all forms of egg pasta, with the exception of non-egg dry pasta containing up to two percent egg white.

The merchandise subject to review is currently classifiable under item 1902.19.20 of the HTSUS. Although the HTSUS subheading is provided for convenience and customs purposes, the written description of the merchandise subject to the order is dispositive.

Scope Ruling:

On October 26, 1998, the Department self-initiated a scope inquiry to determine whether a package weighing over five pounds as a result of allowable industry tolerances may be within the scope of the orders. On May 24, 1999 we issued a final scope ruling finding that, effective October 26, 1998, pasta in packages weighing up to (and including) five pounds four ounces, and so labeled, is within the scope of the order. See Memorandum from John Brinkmann to Richard Moreland, dated May 24, 1999, on file in the CRU.

Analysis of Comments Received

All issues raised by parties to these sunset reviews are addressed in the Issues and Decision Memorandum Expedited Sunset Reviews of the Antidumping Duty Orders on Certain Pasta from Italy and Turkey (“Decision Memorandum”) from Stephen A. Claeys, Deputy Assistant Secretary for Import Administration, to David M. Spooner, Assistant Secretary for Import Administration, dated January 30, 2007, which is hereby adopted by this notice. The issues discussed in the Decision Memorandum include the likelihood of continuation or recurrence of dumping and the magnitude of the margins likely to prevail were the orders revoked. Parties may find a complete discussion of all issues raised in these reviews and the corresponding recommendations in this public memorandum which is on file in the CRU. In addition, a complete version of the Decision Memorandum may be accessed directly on the Web at http://ia.ita.doc.gov/frn. The paper copy and electronic version of the Decision Memorandum are identical in content.

Final Results of Reviews

We determine that revocation of the antidumping duty orders on pasta from Italy and Turkey would likely lead to continuation or recurrence of dumping at the following weighted-average percentage margins:

Manufacturers/Exporters/Producers | Weighted- average margin (percent)
Italy
Arrighi S.p.A. Industrie Alimentari | 21.34
La Molisana Industrie Alimentari S.p.A. | 14.78
Liguori Pastificio Dal 1820 S.p.A. | 12.41
Pastifico Fratelli Pagani S.p.A | 18.30
All Others¹ | 12.09
Turkey
Filiz Gida Sanayi ve Ticaret A.S. | 63.29
Gidasa Sabanci Gida Sanayi ve Ticaret A.S.² | 60.87
All Others | 60.87
¹ Does not apply to 1) CO.R.EX S.p.A.; 2) F.lli De Cecco di Filippo Fara San Martino S.p.A.; 3) Delverde S.r.l. and its affiliate, Tamma Industrie Alimentari di Capitanata S.r.l.; 4) De Matteis Agroalimentare S.p.A.; 5) Pastificio Guido Ferrara S.r.l.; 6) Pasta Lensi S.r.l. (formerly Italian American Pasta Company); 7) N. Puglisi & F. Industria Paste Alimentari; or 8) Pastificio Antonio Pallante S.r.l. and its affiliate Vitelli Foods LLC because these companies are excluded from the order.
² Gidasa Sabanci Gida Sanayi ve Ticaret A.S. is the successor-in-interest to Maktas Makarnacilik ve Ticaret A.S., a respondent in the original investigation.

This sunset review and notice are in accordance with sections 751(c), 752, and 777(i)(1) of the Act.

Dated: January 30, 2007.
David M. Spooner,
Assistant Secretary for Import Administration.

[FR Doc. E7-1811 Filed 2-2-07; 8:45 am]

BILLING CODE 3510-DS-S